COMMITTEE FOR PURCHASE FROM PEOPLE WHO ARE BLIND OR SEVERELY DISABLED

Appointments to Performance Review Board for Senior Executive Service

AGENCY: Committee for Purchase from People Who Are Blind or Severely Disabled.

ACTION: Appointment of Performance Review Board for Senior Executive Service.

SUMMARY: The Committee For Purchase from People Who Are Blind Or Severely Disabled (Committee) has announced appointments to the Committee Performance Review Board.

ADDRESSES: Committee for Purchase From People Who Are Blind or Severely Disabled, 1401 S. Clark Street, Suite 715, Arlington, Virginia 22202-4149.

For Further Information or to Submit Comments Contact: Barry S. Lineback, Telephone: (703) 603-7740, Fax: (703) 603-0655, or email CMTEFedReg@AbilityOne.gov.

SUPPLEMENTARY INFORMATION: All appointments are made pursuant to Section 4314 of Chapter 43 of Title 5 of the United States Code.

Appointments

The following individuals are appointed as members of the Committee Performance Review Board responsible for making recommendations to the appointing and awarding authorities on performance appraisal ratings and performance awards for Senior Executive Service employees:

Perry E. Anthony, Ph.D., Deputy Commissioner, Rehabilitation Services Administration, Department of Education.

James M. Kesteloot, Private Citizen.

Lisa Wilusz, Director, Office of Procurement and Property Management, Department of Agriculture.

DATES: Effective Date: July 1, 2015.

FOR FURTHER INFORMATION CONTACT: Barry S. Lineback, Telephone: (703) 603-7740, Fax: (703) 603-0655, or email CMTEFedReg@abilityone.gov.

Barry S. Lineback,
Director, Business Operations.

[FR Doc. 2015-16529 Filed 7-6-15; 8:45 am]

BILLING CODE 6353-01-P